FEDERAL ELECTION COMMISSION

[Notice 2013-13]

Filing Dates for the Louisiana Special Elections in the 5th Congressional District

AGENCY: Federal Election Commission.

ACTION: Notice of filing dates for special election.

SUMMARY: Louisiana has scheduled a Special General Election on October 19, 2013, to fill the U.S. House of Representatives seat vacated by Representative Rodney Alexander. Under Louisiana law, a majority winner in an open special election is declared elected. Should no candidate achieve a majority vote, a Special Runoff Election will be held on November 16, 2013, between the top two vote-getters.

Committees participating in the Louisiana special elections are required to file pre-and post-election reports. Filing dates for these reports are affected by whether one or two elections are held.

FOR FURTHER INFORMATION CONTACT: Ms. Elizabeth S. Kurland, Information Division, 999 E Street NW., Washington, DC 20463; Telephone: (202) 694-1100; Toll Free (800) 424-9530.

SUPPLEMENTARY INFORMATION:

Principal Campaign Committees

All principal campaign committees of candidates who participate in the Louisiana Special General and Special Runoff Elections shall file a 12-day Pre-General Report on October 7, 2013; a Pre-Runoff Report on November 4, 2013; and a Post-Runoff Report on December 16, 2013. (See chart below for the closing date for each report).

If only one election is held, all principal campaign committees of candidates in the Special General Election shall file a 12-day Pre-General Report on October 7, 2013; and a Post-General Report on November 18, 2013. (See chart below for the closing date for each report).

Unauthorized Committees (PACs and Party Committees)

Political committees filing on a semi-annual basis in 2013 are subject to special election reporting if they make previously undisclosed contributions or expenditures in connection with the Louisiana Special General or Special Runoff Elections by the close of books for the applicable report(s). (See charts below for the closing date for each report.)

Committees filing monthly that make contributions or expenditures in connection with the Louisiana Special General or Runoff Elections will continue to file according to the monthly reporting schedule.

Additional disclosure information in connection with the Louisiana Special Elections may be found on the FEC Web site at http://www.fec.gov/info/report_dates.shtml.

Disclosure of Lobbyist Bundling Activity

Principal campaign committees, party committees and Leadership PACs that are otherwise required to file reports in connection with the special elections must simultaneously file FEC Form 3L if they receive two or more bundled contributions from lobbyists/registrants or lobbyist/registrant PACs that aggregate in excess of $17,100 during the special election reporting periods (see charts below for closing date of each period). 11 CFR 104.22(a)(5)(v) and (b).

Calendar of Reporting Dates for Louisiana Special Election
Report | Close of books ¹ | Reg./cert. & overnight mailing deadline | Filing deadline
IF ONLY ONE ELECTION IS HELD, QUARTERLY FILING COMMITTEES INVOLVED IN THE SPECIAL GENERAL (10/19/13) MUST FILE:
Pre-General | 09/29/13 | 10/04/13 | 10/07/13
October Quarterly |  | ² |
Post-General | 11/08/13 | 11/18/13 | 11/18/13
Year-End | 12/31/13 | 01/31/14 | 01/31/14
IF ONLY ONE ELECTION IS HELD, SEMI-ANNUAL FILING COMMITTEES INVOLVED IN THE SPECIAL GENERAL (10/19/13) MUST FILE:
Pre-General | 09/29/13 | 10/04/13 | 10/07/13
Post-General | 11/08/13 | 11/18/13 | 11/18/13
Year-End | 12/31/13 | 01/31/14 | 01/31/14
IF TWO ELECTIONS ARE HELD, QUARTERLY FILING COMMITTEES INVOLVED IN ONLY THE SPECIAL GENERAL (10/19/13) MUST FILE:
Pre-General | 09/29/13 | 10/04/13 | 10/07/13
October Quarterly |  | ² |
Year-End | 12/31/13 | 01/31/14 | 01/31/14
IF TWO ELECTIONS ARE HELD, SEMI-ANNUAL FILING COMMITTEES INVOLVED IN ONLY THE SPECIAL GENERAL (10/19/13) MUST FILE:
Pre-General | 09/29/13 | 10/04/13 | 10/07/13
Year-End | 12/31/13 | 01/31/14 | 01/31/14
IF TWO ELECTIONS ARE HELD, QUARTERLY FILING COMMITTEES INVOLVED IN THE SPECIAL GENERAL (10/19/13) AND SPECIAL RUNOFF (11/16/13) MUST FILE:
Pre-General | 09/29/13 | 10/04/13 | 10/07/13
Pre-Runoff | 10/27/13 | 11/01/13 | 11/04/13
Post-Runoff | 12/06/13 | 12/16/13 | 12/16/13
Year-End | 12/31/13 | 01/31/14 | 01/31/14
IF TWO ELECTIONS ARE HELD, SEMI-ANNUAL FILING COMMITTEES INVOLVED IN BOTH THE SPECIAL GENERAL (10/19/13) AND SPECIAL RUNOFF (11/16/13) MUST FILE:
Pre-General | 09/29/13 | 10/04/13 | 10/07/13
Pre-Runoff | 10/27/13 | 11/01/13 | 11/04/13
Post-Runoff | 12/06/13 | 12/16/13 | 12/16/13
Year-End | 12/31/13 | 01/31/14 | 01/31/14
IF TWO ELECTIONS ARE HELD, SEMI-ANNUAL FILING COMMITTEES INVOLVED IN ONLY THE SPECIAL RUNOFF (11/16/13) MUST FILE:
Pre-Runoff | 10/27/13 | 11/01/13 | 11/04/13
Post-Runoff | 12/06/13 | 12/16/13 | 12/16/13
Year-End | 12/31/13 | 01/31/14 | 01/31/14
¹ The reporting period always begins the day after the closing date of the last report filed. If the committee is new and has not previously filed a report, the first report must cover all activity that occurred before the committee registered as a political committee up through the close of books for the first report due.
² Waived.

On behalf of the Commission.
Dated: August 22, 2013.
Ellen L. Weintraub,
Chair, Federal Election Commission.

[FR Doc. 2013-21050 Filed 8-28-13; 8:45 am]

BILLING CODE 6715-01-P